DEPARTMENT OF HEALTH AND HUMAN SERVICES

Health Resources and Services Administration

Agency Information Collection Activities: Proposed Collection: Public Comment Request

AGENCY: Health Resources and Services Administration, HHS.

ACTION: Notice.

SUMMARY: In compliance with the requirement for opportunity for public comment on proposed data collection projects (Section 3506(c)(2)(A) of the Paperwork Reduction Act of 1995), the Health Resources and Services Administration (HRSA) announces plans to submit an Information Collection Request (ICR), described below, to the Office of Management and Budget (OMB). Prior to submitting the ICR to OMB, HRSA seeks comments from the public regarding the burden estimate below, or any other aspect of the ICR.

DATES: Comments on this Information Collection Request must be received within 60 days of this notice.

ADDRESSES: Submit your comments to paperwork@hrsa.gov or mail the HRSA Information Collection Clearance Officer, Room 10-29, Parklawn Building, 5600 Fishers Lane, Rockville, MD 20857.

FOR FURTHER INFORMATION CONTACT: To request more information on the proposed project or to obtain a copy of the data collection plans and draft instruments, email paperwork@hrsa.gov or call the HRSA Information Collection Clearance Officer at (301) 443-1984.

SUPPLEMENTARY INFORMATION: When submitting comments or requesting information, please include the information request collection title for reference.

Information Collection Request Title: Uniform Project Description and Application Guide—SF 424 Non-Construction.

OMB No. 0915-xxxx—New.

Abstract: The Health Resources and Services Administration is requesting clearance for the Uniform Project Description (UPD) and Application Guide to be used in conjunction with the SF-424 Non-Construction application kit by program offices to solicit application information for grants and cooperative agreements.

Need and Proposed Use of the Information: The HRSA SF-424 Application Guide provides detailed standard instructions to help applicants prepare and submit applications electronically to HRSA through Grants.gov. The Guide is used in conjunction with the HRSA UPD that provides a menu of narratives from which the program office can select for inclusion within a program-specific grant or cooperative agreement funding opportunity announcement (FOA). UPD text options selected for use in a given FOA define the required project description portion to the applicant. The ability to pick and choose standard language that is appropriate for any given FOA reduces the burden associated with application preparation by eliminating irrelevant portions of the application for a given announcement. In addition, it provides consistency in the application review process.

Much of the information required in applications for project grants and cooperative agreements is required by HHS Uniform Administrative Requirements for Grants and Cooperative Agreements at the following citations: 45 CFR part 74, 45 CFR part 92, applicable program regulations in 42 CFR chapters I and IV, and applicable administrative regulations in 45 CFR subtitle A.

HRSA program offices, grants management officials, and expert non-federal and federal panel reviewers use the collected information provided through grant applications to select and award discretionary grants. Program offices use the information to ensure that the authorizing legislation and applicable program regulations will be implemented through any funded project, and that applicant entities are eligible to receive HRSA funds. Expert non-federal and federal objective review panelists score the information provided in applications as they evaluate applications in the context of the FOA's published criteria to ensure that the best proposed projects are recommended for funding. Grants management officials use the information to ensure appropriate federal stewardship of federal grant funds and that proposed budgeted project costs are allowable, allocable, and reasonable.

Likely Respondents: Eligible organizations may include state, local, and Indian Tribal governments; institutions of higher education; other non-profit organizations (including faith-based, community-based, and Tribal organizations); and hospitals. In limited cases, foreign organizations may apply.

Burden Statement: Burden in this context means the time expended by persons to generate, maintain, retain, disclose or provide the information requested. This includes the time needed to review instructions; to develop, acquire, install and utilize technology and systems for the purpose of collecting, validating and verifying information, processing and maintaining information, and disclosing and providing information; to train personnel and to be able to respond to a collection of information; to search data sources; to complete and review the collection of information; and to transmit or otherwise disclose the information. The total annual burden hours estimated for this Information Collection Request are summarized in the table below.

Total Estimated Annualized Burden Hours
Form name | Number of respondents | Number of responses per respondent | Total responses | Average burden per response (in hours) | Total burden hours
SF-424 Non-Construction UPD and SF-424 Application Guide | 3,500 | 1 | 3,500 | 145 | 507,500
Total | 3,500 | 1 | 3,500 | 145 | 507,500

HRSA specifically requests comments on (1) the necessity and utility of the proposed information collection for the proper performance of the agency's functions, (2) the accuracy of the estimated burden, (3) ways to enhance the quality, utility, and clarity of the information to be collected, and (4) the use of automated collection techniques or other forms of information technology to minimize the information collection burden.

Dated: September 5, 2013.
Bahar Niakan,
Director, Division of Policy and Information Coordination.

[FR Doc. 2013-22111 Filed 9-10-13; 8:45 am]

BILLING CODE 4165-15-P